SECURITIES AND EXCHANGE COMMISSION

[SEC File No. 270-242, OMB Control No. 3235-0206]

Submission for OMB Review; Comment Request Extension: Rule 19d-1

Upon Written Request, Copies Available From: Securities and Exchange Commission, Office of FOIA Services, 100 F Street, NE Washington, DC 20549-2736

Notice is hereby given that pursuant to the Paperwork Reduction Act of 1995 (44 U.S.C. 3501 et seq.) (“PRA”), the Securities and Exchange Commission (“Commission”) has submitted to the Office of Management and Budget (“OMB”) a request for approval of extension of the previously approved collection of information provided for in Rule 19d-1 (17 CFR 240.19d-1) under the Securities Exchange Act of 1934 (17 U.S.C. 78a et seq.) (“Exchange Act”).

Rule 19d-1 prescribes the form and content of notices to be filed with the Commission by self-regulatory organizations (“SROs”) for which the Commission is the appropriate regulatory agency concerning the following final SRO actions: (1) disciplinary actions with respect to any person; (2) denial, bar, prohibition, or limitation of membership, participation or association with a member or of access to services offered by an SRO or member thereof; (3) summarily suspending a member, participant, or person associated with a member, or summarily limiting or prohibiting any persons with respect to access to or services offered by the SRO or a member thereof; and (4) delisting a security.

The Rule enables the Commission to obtain reports from the SROs containing information regarding SRO determinations to delist a security, discipline members or associated persons of members, deny membership or participation or association with a member, and similar adjudicated findings. The Rule requires that such actions be promptly reported to the Commission. The Rule also requires that the reports and notices supply sufficient information regarding the background, factual basis and issues involved in the proceeding to enable the Commission: (1) to determine whether the matter should be called up for review on the Commission's own motion; and (2) to ascertain generally whether the SRO has adequately carried out its responsibilities under the Exchange Act.

It is estimated that approximately 19 respondents will file a total of approximately 912 submissions per year (an average of 48 per respondent). The Commission estimates that the average number of hours necessary to comply with the requirements of Rule 19d-1 for each submission is 1 hour. The total annual burden for all respondents is thus 912 hours. The Commission estimates that the internal compliance cost per respondent is approximately $319 per response. The annual internal cost of compliance for all respondents is thus approximately $290,928 (19 respondents × 48 responses × $319 per response).

The filing of notices pursuant to Rule 19d-1 is mandatory for the SROs, but does not require the collection of confidential information.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by July 18, 2022 to (i) www.reginfo.gov/public/do/PRAMain and (ii) David Bottom, Director/Chief Information Officer, Securities and Exchange Commission, c/o John Pezzullo, 100 F Street NE, Washington, DC 20549, or by sending an email to: PRA_Mailbox@sec.gov.

Dated: June 13, 2022.
J. Matthew DeLesDernier,
Assistant Secretary.

[FR Doc. 2022-13049 Filed 6-16-22; 8:45 am]

BILLING CODE 8011-01-P